SECURITIES AND EXCHANGE COMMISSION

Sunshine Act Meeting

FEDERAL REGISTER CITATION OF PREVIOUS ANNOUNCEMENT: [77 FR 71203, November 29, 2012]

STATUS: Closed Meeting.

PLACE: 100 F Street NE., Washington, DC

DATE AND TIME OF PREVIOUSLY ANNOUNCED MEETING: Monday, December 3, 2012 at 2:00 p.m.

CHANGE IN THE MEETING: Date Change.

The Closed Meeting scheduled for Monday, December 3, 2012 at 2:00 p.m., has been changed to Tuesday, December 4, 2012 at 2:30 p.m.

At times, changes in Commission priorities require alterations in the scheduling of meeting items. For further information and to ascertain what, if any, matters have been added, deleted or postponed, please contact:

The Office of the Secretary at (202) 551-5400.

Dated: November 29, 2012.
Elizabeth M. Murphy,
Secretary.

[FR Doc. 2012-29319 Filed 11-30-12; 11:15 am]

BILLING CODE 8011-01-P